DEPARTMENT OF DEFENSE

Department of the Air Force

HQ USAF Scientific Advisory Board

AGENCY: Department of the Air Force, DoD.

ACTION: Notice of meeting.

SUMMARY: Pursuant to Public Law 92-463, notice is hereby given of the forthcoming outbrief on Technology for Machine-to-Machine ISR Integration. The purpose of the meeting is to allow the SAB leadership to advise J8 an outbrief of the study. This meeting will be closed to the public.

DATES: November 20, 2003.

ADDRESSES: Pentagon (J8), Room 1E962, Washington DC 20330.

FOR FURTHER INFORMATION CONTACT: Paul Hazell, Air Force Scientific Advisory Board Secretariat, 1180 Air Force Pentagon, Rm 5D982, Washington DC 20330-1180, (703) 697-4811.

Pamela D. Fitzgerald,
Air Force Federal Register Liaison Officer.

[FR Doc. 03-28589 Filed 11-14-03; 8:45 am]

BILLING CODE 5001-5-P